DEPARTMENT OF THE INTERIOR

Bureau of Land Management

[WY-020-E01-18; WYW-134032]

Notice of Realty Action Direct Sale of Public Land in Big Horn County, Wyoming, Cody Field Office

AGENCY: Bureau of Land Management, Interior.

ACTION: Notice of Realty Action.

SUMMARY: The Bureau of Land Management (BLM) has determined that the following land is suitable for direct sale to Hawkins & Powers Aviation Inc. (H&P) under sections 203 and 209 of the Federal Land Policy and Management Act (FLPMA) of 1976 , (90 Stat. 2750, 2757), (43 U.S.C. 1713, 1719), (43 CFR 2711.3-3[1] and [5] and (43 CFR part 270) at not less than fair market value. The land will not be offered for sale until at least 60 days after the date of this notice.

Sixth Principal Meridian, Wyoming

T. 52 N., R. 93 W.,

Section 6, Lot 9

Parcel 9A (Cadastral Survey)

Containing 0.99 acres more or less.

FOR FURTHER INFORMATION CONTACT: Duane Feick, Cody Field Office Realty Specialist, Bureau of Land Management, 1002 Blackburn, Cody, Wyoming, 82414; (307) 578-5900.

SUPPLEMENTARY INFORMATION: The land described is hereby segregated from appropriation under the public land laws, including the mining laws, pending disposition of this action, or 270 days from the date of publication of this notice, which ever occurs first. The land would be offered by direct sale to Hawkins and Powers Aviation Inc., an adjacent private landowner, at fair market value. This sale is consistent with Bureau of Land Management policies and the Cody Resource Management Plan (RMP) approved November 8, 1990. As indicated in the Cody RMP, the preferred method of land disposal to a private landowner is by exchange. However, because of the small acreage and relatively low dollar value involved, BLM believes a sale is more appropriate.

The purpose of the sale is to allow consolidation of Hawkins and Powers Aviation Inc. land holdings in the area, and to allow H&P to construct a parking area on the parcel in conjunction with their Museum of Aerial Fire Fighting. This tract is adjoined on three sides by land owned by Big Horn County, and on one side by land owned by the Federal Highway Administration. Access to the parcel is via an existing public county road. The tract is composed of a level gravel terrace with very little vegetation. Public comments were solicited on this proposed direct sale at an open house held in June 1998—no adverse comments were received.

Hawkins & Powers Aviation, Inc. will be required to submit a nonrefundable application fee of $50 in accordance with 43 CFR part 2720, for conveyance of all unreserved mineral interests in the lands. There are no grazing privileges associated with the land.

Any deed issued will be subject to all valid existing rights. Specific patent reservations are:

1. A right-of-way for ditches and canals constructed by authority of the United States pursuant to the Act of August 30, 1890, (43 U.S.C. 945).

2. All oil and gas will be reserved to the United States, together with the right to prospect for, mine and remove the same.

3. All other existing rights of record.

The fair market value, planning document and environmental assessment covering the proposed sale will be available for review at the Bureau of Land Management, Cody Field Office, 1002 Blackburn, Cody, Wyoming 82414.

For a period of 45 days from the date of this notice published in the Federal Register, interested parties may submit comments to the Cody Field Office, P.O. Box 518, Cody, WY 82414. Any adverse comments will be evaluated by the State Director, who may vacate or modify this realty action and issue a final determination. In the absence of any action by the State Director, this realty action will become the final determination of the Department of Interior.

Comments, including names and addresses of respondent will be available for public review at the Cody Field Office, 1002 Blackburn, Cody, Wyoming during regular business hours (7:30 a.m.-4:30 p.m.) Monday through Friday, except holidays. Individual respondents may request confidentiality. If you wish to withhold your name and address from public review, or from disclosure under the Freedom of Information Act, you must state this prominently at the beginning of your comments. Such requests will be honored to the extent allowed by law. All submissions from organizations or businesses, and from individuals identifying themselves as representatives or officials of organizations or businesses, will be made available for public inspection in their entirety.

Dated: December 3, 2001.
Michael Blymyer,
Cody Field Manager.

[FR Doc. 02-3532 Filed 2-12-02; 8:45 am]

BILLING CODE 4310-22-P